DEPARTMENT OF HEALTH AND HUMAN SERVICES

National Institutes of Health

Submission for OMB Review; 30-Day Comment Request; Data Use Certification for the NIH Brain Development Cohorts (NBDC), (National Institute on Drug Abuse)

AGENCY: National Institutes of Health, HHS.

ACTION: Notice.

SUMMARY: In compliance with the Paperwork Reduction Act of 1995, the National Institutes of Health (NIH) has submitted to the Office of Management and Budget (OMB) a request for review and approval of the information collection listed below.

DATES: Comments regarding this information collection are best assured of having their full effect if received within 30-days of the date of this publication.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: To request more information on the proposed project or to obtain a copy of the data collection plans and instruments, contact: Dr. Elizabeth A. Hoffman, Associate Director, Division of Extramural Research, National Institute on Drug Abuse, 3WFN Room 09C75 MSC 6021, Gaithersburg, MD 20877, or call non-toll-free number (301) 594-2265 or Email your request, including your address to: elizabeth.hoffman@nih.gov.

SUPPLEMENTARY INFORMATION: This information collection was previously published in the Federal Register on November 12, 2024, (89 FR 89019) and allowed 60 days for public comment. No public comments were received. The purpose of this notice is to allow an additional 30 days for public comment.

The National Institute on Drug Abuse (NIDA), National Institutes of Health, may not conduct or sponsor, and the respondent is not required to respond to, an information collection that has been extended, revised, or implemented on or after October 1, 1995, unless it displays a currently valid OMB control number.

In compliance with Section 3507(a)(1)(D) of the Paperwork Reduction Act of 1995, the NIH has submitted to the Office of Management and Budget (OMB) a request for review and approval of the information collection listed below.

Proposed Collection: Data Use Certification for the NIH BRAIN Development Cohorts (NBDC), (NIDA) REVISION 0925-0780, expiration date 10/31/2026, National Institute on Drug Abuse (NIDA), National Institutes of Health (NIH).

Need and Use of Information Collection: The purpose of this information collection is to collect from Recipients a brief description of their research project to submit to the NIH Brain Development Cohorts (NBDC) data repository to gain access to NBDC Study data. Recipients who plan to conduct research studies specifically on American Indian/Alaska Native (AI/AN) populations must submit an additional data use statement. The purpose of this revision is to clarify inclusion of the HBCD Study, and to request a progress report statement at the time of renewal. Burden levels remain unchanged.

OMB approval is requested for 3 years. There are no costs to respondents other than their time. The total estimated annualized burden hours are 2,000.

Estimated Annualized Burden Hours
Type of respondent | Number of respondents | Number of responses per respondent | Average time per response (in hours) | Total annual burden hour
Individuals (standard DUC form) | 1,800 | 1 | 1 | 1,800
Individuals (additional AI/AN DUC form when needed) | 200 | 1 | 1 | 200
Total |  | 2,000 |  | 2,000

Usha R Charya,
Project Clearance Liaison, National Institute on Drug Abuse, National Institutes of Health.

[FR Doc. 2025-08893 Filed 5-16-25; 8:45 am]

BILLING CODE 4140-01-P